DEPARTMENT OF HOMELAND SECURITY

Information Collection Request to Office of Management and Budget

AGENCY: Science and Technology Directorate (S&T), Department of Homeland Security (DHS).

ACTION: Sixty-day notice requesting comments.

SUMMARY: In compliance with the Paperwork Reduction Act of 1995, the Department of Homeland Security (DHS) Science and Technology Directorate (S&T) intends to submit an Information Collection Requestion (ICR) to the Office of Management and Budget (OMB), Office of Information and Regulatory Affairs (OIRA), requesting approval for the collection of information. Our ICR describes the information we seek to collect from the public. Before submitting this ICR to OIRA, S&T is inviting comments as described below.

DATES: Comments much reach S&T on or before May 5, 2023.

ADDRESSES: You may submit comments identified by DHS docket number DHS-2022-0014 to S&T using the Federal eRulemaking Portal at https://www.regulations.gov. See the “Public participation and request for comments” portion of the SUPPLEMENTARY INFORMATION section for further instructions on submitting comments.

FOR FURTHER INFORMATION CONTACT: DHS/S&T/OES/CIO/Business Management Office: Heather Erhuanga, Heather.Erhuanga@hq.dhs.gov or 202-941-8731 (Not a toll-free number.)

SUPPLEMENTARY INFORMATION: Public participation and request for comments: This notice relies on the authority of the Paperwork Reduction Act of 1995; 44 U.S.C. 3501 et seq., chapter 35, as amended. An ICR is an application to OIRA seeking the approval, extension, or renewal of a S&T collection of information (Collection). The ICR contains information describing the Collection's purpose, the Collection's likely burden on the affected public, an explanation of the necessity of the Collection, and other important information describing the Collection. There is one ICR for each Collection.

S&T invites comments on whether this ICR should be granted based on the Collection being necessary for the proper performance of Departmental functions. In particular, S&T would appreciate comments addressing: (1) The practical utility of the Collection; (2) the accuracy of the estimated burden of the Collection; (3) ways to enhance the quality, utility, and clarity of information subject to the Collection; and (4) ways to minimize the burden of the Collection on respondents, including the use of automated collection techniques or other forms of information technology. Burden means the total time, effort, or financial resources expended by persons to generate, maintain, retain, disclose or provide information to or for a Federal agency.

In response to your comments, we may revise this ICR. We will consider all comments and material received during the comment period.

We encourage you to respond to this request by submitting comments and related materials. Comments must contain the OMB Control Number of the ICR and the docket number of this request, DHS-2022-0014, and must be received by May 5, 2023.

Submitting Comments: We encourage you to submit comments through the Federal eRulemaking Portal at https://www.regulations.gov. If your material cannot be submitted using https://www.regulations.gov, contact the person in the FOR FURTHER INFORMATION CONTACT section of this document for alternate instructions. Documents mentioned in this notice, and all public comments, are in our online docket at https://www.regulations.gov and can be viewed by following that website's instructions. Additionally, if you go to the online docket and sign up for email alerts, you will be notified when comments are posted.

We accept anonymous comments. All comments received will be posted without change to https://www.regulations.gov and will include any personal information you have provided. For more about privacy and submissions in response to this document, see DHS's eRulemaking System of Records notice (85 FR 14226, March 11, 2020).

Overview of This Information Collection Request

Title: Science and Technology Collection of Qualitative Feedback.

OMB Control Number: 1640-0018.

Type of Information Collection: Extension without change of a currently approved collection Agency form number, if any, and the applicable component of the DHS sponsoring the collection: [INSERT FORM NUMBER], Science and Technology Directorate, Department of Homeland Security.

Respondents: Individuals.

Total Estimated Number of Respondents: An estimated 400,000 respondents will take the survey.

Total Estimated Burden Time: 200,000 hours.

Frequency: Once.

Obligation to Respond: Voluntary.

Summary: S&T's mission is to deliver effective and innovative insight, methods, and solutions for the critical needs of the Homeland Security Enterprise. As the research and development (R&D) arm of the Department of Homeland Security (DHS), the Science and Technology Directorate (S&T) focuses on providing the tools, technologies, and knowledge products the nation's Homeland Security Enterprise needs today and tomorrow. S&T constantly works to bridge industry and end-user communities around the nation. S&T's R&D focus areas cover DHS's core mission areas and use our network of industry, national laboratory and other partners seek solutions for capability gaps and define topics for future research. In order to work continuously to ensure that our programs are effective and meet our customers' needs, S&T seeks to obtain Office of Management and Budget approval of a generic clearance to collect qualitative feedback on our service delivery. By qualitative feedback, we mean information that provides useful insights on perceptions and opinions, but are not statistical surveys that yield quantitative results that can be generalized to the population of study. This collection of information is necessary to enable the S&T programs to garner customer and stakeholder feedback in an efficient, timely manner, in accordance with our commitment to improving tools, technologies, services and knowledge products. The information collected from our customers and stakeholders will help ensure that users have an effective, efficient, and satisfying experience with our programs. This feedback will provide insights into customer or stakeholder perceptions, experiences, and expectations, provide an early warning of issues with products or service, or focus attention on areas where communication, training or changes in operations might improve delivery of products or services. These collections will allow for ongoing, collaborative, and actionable communications between S&T and its customers and stakeholders. It will also allow feedback to contribute directly to the improvement of program management. Executive Order 12862 directs Federal agencies to provide service to the public that matches or exceeds the best service available in the private sector.

There is no cost to participants other than their time.

J. Jeffrey Robinson,
Deputy Chief Information Officer, Science and Technology Directorate, Department of Homeland Security.

[FR Doc. 2023-04459 Filed 3-3-23; 8:45 am]

BILLING CODE 9110-9F-P